DEPARTMENT OF COMMERCE

National Oceanic and Atmospheric Administration

[RTID 0648-XF399]

Magnuson-Stevens Fishery Conservation and Management Act; General Provisions for Domestic Fisheries; Applications for Exempted Fishing Permits

AGENCY: National Marine Fisheries Service (NMFS), National Oceanic and Atmospheric Administration (NOAA), Commerce.

ACTION: Notice; request for comments.

SUMMARY: NMFS received two exempted fishing permit (EFP) applications for U.S. West Coast highly migratory species (HMS) fisheries that warrant further consideration at this time. Both EFP applicants request exemptions from regulatory provisions pertaining to the use of authorized gear types under the Fishery Management Plan for U.S. West Coast Fisheries for Highly Migratory Species (HMS FMP). The applicants propose to test the effects and efficacy of using alternative fishing practices to harvest swordfish and other HMS off of the U.S. West Coast. During the November 2025 Pacific Fishery Management Council (Council) meeting, the Council reviewed and endorsed these two EFP applications and recommended that NMFS approve them. NMFS has determined that these applications warrant further consideration and is requesting public comment on them, as well as the Council's recommendations on them.

DATES: Comments must be submitted in writing by March 4, 2026.

ADDRESSES: You may submit comments on this document, identified by NOAA-NMFS-2026-0133, by any of the following methods:

• Electronic Submission: Submit all electronic public comments via the Federal e-Rulemaking Portal. Go to https://www.regulations.gov and enter NOAA-NMFS-2026-0133 in the Search box. Click on the “Comment” icon, complete the required fields, and enter or attach your comments.

• Mail: Submit written comments to Chris Fanning, NMFS West Coast Region, 501 W. Ocean Blvd., Suite 4200, Long Beach, CA 90802. Include the identifier “NOAA-NMFS-2026-0133” in the comments.

Instructions: Comments sent by any other method, to any other address or individual, or received after the end of the comment period, may not be considered by NMFS. All comments received are a part of the public record, and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Chris Fanning, NMFS, West Coast Region, 562-980-4198, Chris.Fanning@noaa.gov.

SUPPLEMENTARY INFORMATION:

On November 17, 2025, the Council reviewed and was supportive of three applications for HMS EFPs. The Council recommended that NMFS approve the night-set buoy gear (NSBG) and multi-species extended linked buoy gear (MSXLBG) applications and that the proponents of the third application bring it back for additional discussion and consideration at the Council's March 2026 meeting. The Council further recommended that NMFS build in flexibility when considering EFP applications to allow for variations in the fishing configurations within environmental review processes and analyses. When making its recommendations for flexibility, the Council considered the utility of allowing for a greater range of target depths and time for gear deployment, as well as modifications to monofilament configurations, bait type, and light placement.

The MSXLBG EFP application from the Pfleger Institute of Environmental Research ¹ requests flexibility on hook depth, set time and bait type to allow for both deep and shallow setting to occur, including on the same sets, to target the highly migratory species complex. If issued, this EFP would modify a current extended linked buoy gear (XLBG) EFP that exempts the permitted vessels from regulations at 50 CFR 660.712(a)(1) prohibiting use of longline-type gear in federal waters off the U.S. West Coast. The terms and conditions for the current XLBG EFP restrict target depths to below 100 meters. Based on the new application, and taking into account Council recommendations, NMFS is considering modifications to the current terms and conditions to allow for targeting depths shallower than 100 meters and testing a broader range of gear options and deployment strategies, including timing of sets, large circle hook size, bait type, and light placement.

¹ https://www.pcouncil.org/documents/2025/10/i-3-attachment-2-draft-efp-application-multi-species-extended-link-buoy-gear.pdf/.

The NSBG EFP application from Andrew Hemstreet ² requests an exemption from the prohibition on deploying deep-set buoy gear (DSBG) until local sunrise and retrieving the gear no later than 3 hours after local sunset, which would otherwise be prohibited by 50 CFR 660.715(c)(3). In addition, the applicant has conveyed his interest in also having more flexibility to use a standard or linked buoy gear configuration at night to target a broader range of depths (i.e., including depths shallower than 90 meters) than is currently authorized in regulations for DSBG at 50 CFR 660.715(a)(1) and (2). NMFS is therefore considering his application to be requesting exemptions under § 660.715(a)(1) and (2), and (c)(3).

² https://www.pcouncil.org/documents/2025/10/i-3-attachment-1-efp-application-hemstreet.pdf/.

At this time, NMFS is requesting public comment on the NSBG EFP and MSXLBG applications and Council recommendations discussed above. NMFS will take the Council's comments into consideration along with public comments on whether to issue these EFPs. Aside from regulatory exemptions to conduct the proposed EFP activities, vessels fishing under an EFP would be subject to all other regulations implemented at 50 CFR part 660, subpart K and 50 CFR part 300, subpart C, including measures to protect sea turtles, marine mammals, sharks, and seabirds.

NMFS will consider all public comments submitted in response to this Federal Register notice prior to issuance of any EFP. Additionally, NMFS will analyze the effects of issuing EFPs in accordance with the National Environmental Policy Act and NOAA's Administrative Order 216-6A, as well as for compliance with other applicable laws, including section 7(a)(2) of the Endangered Species Act (16 U.S.C. 1531 et seq.), which requires the agency to consider whether the proposed action is likely to jeopardize the continued existence and recovery of any endangered or threatened species or result in the destruction or adverse modification of critical habitat.

Authority: 16 U.S.C. 1801 et seq.

Dated: January 28, 2026.
Kelly Denit,
Director, Office of Sustainable Fisheries, National Marine Fisheries Service.

[FR Doc. 2026-02065 Filed 1-30-26; 8:45 am]

BILLING CODE 3510-22-P